DEPARTMENT OF DEFENSE

Office of the Secretary of Defense

[DOD-2006-OS-0201]

Privacy Act of 1974; System of Records

AGENCY: Office of the Secretary, DoD.

ACTION: Notice to Amend Systems of Records.

SUMMARY: The Office of the Secretary of Defense is amending a system of records notice in its existing inventory of record systems subject to the Privacy Act of 1974, (5 U.S.C. 552a), as amended.

DATES: This proposed action will be effective without further notice on November 6, 2006 unless comments are received which result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: October 2, 2006.
C.R. Choate,
Alternate OSD Federal Register Liaison Officer, Department of Defense.

DWHS P47

System name:

OSD Military Personnel Files (December 1, 2000, 65 FR 75245).

Changes:

* * * * *

System Location:

Delete entry and replace with “Military Personnel, Washington Headquarters Services, Department of Defense, Room 5E556, 1155 Defense Pentagon, Washington, DC 20301-1155.”

* * * * *

Storage:

Delete entry and replace with “Excel Database.”

Retrievability:

Delete entry and replace with “Information is retrieved by last name and social security number.”

Safeguards:

Delete entry and replace with “Automated records are maintained in controlled areas accessible only to authorized personnel. Entry to these areas is restricted to personnel with a valid requirement and authorization to enter. Back-up data maintained at each location is stored in a locked room.”

* * * * *

System manager(s) and address:

Delete entry and replace with “Military Personnel, Washington Headquarters Services, Department of Defense, Room 5E556, 1155 Defense Pentagon, Washington, DC 20301-1155.”

Notification procedure:

Delete name of organization and address and replace with “Military Personnel, Washington Headquarters Services, Department of Defense, Room 5E556, 1155 Defense Pentagon, Washington, DC 20301-1155.”

A second and third paragraphs are added to read “Written requests for information should contain the full name of the individual, current address and telephone number.

For personal visits, the individual should be able to provide some acceptable identification.”

Record access procedures:

Delete name of organization and address and replace with “Military Personnel, Washington Headquarters Services, Department of Defense, Room 5E556, 1155 Defense Pentagon, Washington, DC 20301-1155.”

* * * * *

DWHS P47

System name:

OSD Military Personnel Files.

System location:

Military Personnel, Washington Headquarters Services, Department of Defense, Room 5E556, 1155 Defense Pentagon, Washington, DC 20301-1155.

Categories of individuals covered by the system:

All military personnel assigned or attached to or on temporary duty with the Office of the Secretary of Defense (OSD).

Categories of records in the system:

Files contain personnel information that has been extracted from the individual's Official Military Personnel Files (OMPF). File contains, but is not limited to, name, grade, Social Security number; service job title; expected date of arrival for duty with OSD; expected date of departure from OSD; home and address of record; general and special orders; and details pertaining to duties, assignment, promotion, and training.

Authority for maintenance of the system:

10 U.S.C. 131, Office of the Secretary of Defense and E.O. 9397 (SSN).

Purpose(s):

To administer and centrally manage personnel functions of Department of Defense military personnel prior to their assignment and during their assignment to OSD. Uses include, but are not limited to, knowing when an individual will arrive, what agency they will be assigned to, who they will replace and when an individual will depart. The records are maintained as a local repository of documents generated during the service member's assignment and are used to manage, administer, and document the assignment.

Routine uses of records maintained in the system, including categories of users and the purpose of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Excel Database.

Retrievability:

Information is retrieved by last name and social security number

Safeguards:

Automated records are maintained in controlled areas accessible only to authorized personnel. Entry to these areas is restricted to personnel with a valid requirement and authorization to enter. Back-up data maintained at each location is stored in a locked room.

Retention and disposal:

Both paper and electronic files are maintained in active status until individual departs OSD. Upon departure, the individual's files are moved to inactive status. Inactive files are retained for one year and then destroyed or deleted.

System manager and address:

Military Personnel, Washington Headquarters Services, Department of Defense, Room 5E556, 1155 Defense Pentagon, Washington, DC 20301-1155.

Notification procedures:

Individuals seeking to determine whether information about themselves is contained in this system should address written inquiries to the Military Personnel, Washington Headquarters Services, Department of Defense, Room 5E556, 1155 Defense Pentagon, Washington, DC 20301-1155.

Written requests for information should contain the full name of the individual, current address and telephone number.

For personal visits, the individual should be able to provide some acceptable identification.

Record access procedures:

Individuals seeking access to information about themselves contained in this system should address written inquiries to the Military Personnel, Washington Headquarters Services, Department of Defense, Room 5E556, 1155 Defense Pentagon, Washington, DC 20301-1155.

Written requests for information should contain the full name of the individual, current address and telephone number.

For personal visits, the individual should be able to provide some acceptable identification.

Contesting record procedures:

The OSD rules for accessing records, for contesting contents and appealing initial agency determinations are published in OSD Administrative Instruction 81; 32 CFR part 311; or may be obtained from the system manager.

Record source categories:

Sources of information are the individual, the individual's Official Military Personnel File; PCS Orders; and SD Form 37, ‘Request for Nomination and Position Description of Military Personnel’.

Exemptions claimed for the system:

None.

[FR Doc. E6-16500 Filed 10-5-06; 8:45 am]

BILLING CODE 5001-06-P